DEPARTMENT OF JUSTICE

Antitrust Division

Notice Pursant to the National Cooperative Research and Production Act of 1993—Joint Venture Under ATP Award No. 70NANB4H3044

Notice is hereby given that, on October 22, 2004, pursuant to section 6(a) of the National Cooperative Research and Production Act of 1993, 15 U.S.C. 4301 et seq. (“the Act”), the Joint Venture under ATP Award No. 70NANB4H3044 (“ATP JV”) has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to section 6(b) of the Act, the identities of the parties are Sarnoff Corporation, Princeton, NJ; Autoliv ASP, Inc., Auburn Hills, MI; and Ford Motor Company, Dearborn, MI. The general area of ATP JV's planned activity is active automotive safety through a novel fusion of vision and radar sensors that will identify and evaluate impending collisions in time to take advance action.

Dorothy B. Fountain,
Deputy Director of Operations, Antitrust Division.

[FR Doc. 04-25868 Filed 11-19-04; 8:45 am]

BILLING CODE 4410-11-M